DEPARTMENT OF AGRICULTURE

Animal and Plant Health Inspection Service

[Docket No. APHIS-2016-0044]

Notice of Determination of the Classical Swine Fever, Foot-and-Mouth Disease, Rinderpest, and Swine Vesicular Disease Status of Cyprus

AGENCY: Animal and Plant Health Inspection Service, USDA.

ACTION: Notice.

SUMMARY: We are advising the public of our determination to recognize Cyprus as being free of foot-and-mouth disease (FMD), rinderpest, and swine vesicular disease (SVD), and as low risk for classical swine fever (CSF). Based on the findings of a risk assessment, which we made available to the public for review and comment through a previous notice, we have determined that the surveillance, prevention, and control measures implemented by the European Union (EU) and Cyprus, an EU Member State, are sufficient to minimize the likelihood of introducing CSF, FMD, SVD, and rinderpest into the United States via imports of species susceptible to these diseases or products of those species.

DATES: Effective June 8, 2017.

FOR FURTHER INFORMATION CONTACT: Dr. Ingrid Kotowski, Regionalization Evaluation Services, National Import Export Services, Veterinary Services, APHIS, 920 Main Campus Drive, Suite 200, Raleigh, NC 27606; (919) 855-7732; Ingrid.Kotowski@aphis.usda.gov.

SUPPLEMENTARY INFORMATION: The regulations in 9 CFR part 94 (referred to below as the regulations) govern the importation of certain animals and animal products into the United States to prevent the introduction of various animal diseases, including classical swine fever (CSF), foot-and-mouth disease (FMD), swine vesicular disease (SVD), and rinderpest.¹ The regulations prohibit or restrict the importation of live ruminants and swine, and products from these animals, from regions where these diseases are considered to exist.

¹ The World Organization for Animal Health (OIE) recognizes rinderpest as having been globally eradicated, and recommends that countries not impose any rinderpest-related conditions on import or transit of livestock and livestock products. In addition, the OIE recently delisted SVD as a disease of concern for international trade. However, APHIS continues to regulate for rinderpest and SVD through its import regulations for animals and animal products.

Within part 94, § 94.1 contains requirements governing the importation of ruminants and swine from regions where rinderpest or FMD exists and the importation of the meat of any ruminants or swine from regions where rinderpest or FMD exists to prevent the introduction of either disease into the United States. We consider rinderpest and FMD to exist in all regions except those listed in accordance with paragraph (a) of that section as free of rinderpest and FMD.

Section 94.9 contains requirements governing the importation of pork and pork products from regions where CSF exists. Section 94.10 contains importation requirements for swine from regions where CSF is considered to exist and designates the Animal and Plant Health Inspection Service (APHIS)-defined European CSF region as a single region of low risk for CSF. Section 94.31 contains requirements governing the importation of pork, pork products, and swine from the APHIS-defined European CSF region. We consider CSF to exist in all regions of the world except those listed in accordance with paragraph (a) of § 94.9 as free of the disease.

Section 94.11 of the regulations contains requirements governing the importation of meat of any ruminants or swine from regions that have been determined to be free of rinderpest and FMD, but that are subject to certain restrictions because of their proximity to or trading relationships with rinderpest- or FMD-affected regions. Such regions are listed in accordance with paragraph (a) of that section.

Section 94.12 of the regulations contains requirements governing the importation of pork or pork products from regions where SVD exists. We consider SVD to exist in all regions of the world except those listed in accordance with paragraph (a) of that section as free of SVD.

Section 94.13 contains importation requirements governing the importation of pork or pork products from regions that have been declared free of SVD as provided in § 94.12(a) but supplement their national pork supply by the importation of fresh (chilled or frozen) meat of animals from regions where SVD is considered to exist, or have a common border with such regions, or have trade practices that are less restrictive than are acceptable to the United States. Such regions are listed in accordance with paragraph (a) of § 94.13.

Section 94.14 states that no swine which are moved from or transit any region in which SVD is known to exist may be imported into the United States except wild swine imported in accordance with § 94.14(b).

The regulations in 9 CFR part 92, § 92.2, contain requirements for requesting the recognition of the animal health status of a region (as well as for the approval of the export of a particular type of animal or animal product to the United States from a foreign region). If, after review and evaluation of the information submitted in support of the request, APHIS believes the request can be safely granted, APHIS will make its evaluation available for public comment through a document published in the Federal Register. Following the close of the comment period, APHIS will review all comments received and will make a final determination regarding the request that will be detailed in another document published in the Federal Register.

Accordingly, we published a notice ² in the Federal Register on January 23, 2017 (82 FR 7790-7791, Docket No. APHIS-2016-0044), in which we announced the availability, for review and comment, of a risk assessment that evaluated the risk of introduction of CSF, FMD, SVD, and rinderpest into the United States through the importation of animals and animal products from Cyprus.³ The notice also made available a finding of no significant impact statement, which incorporates by reference four environmental assessments (EAs) prepared for Slovakia, Slovenia, Estonia, and Hungary, that addresses the potential environmental impacts of CSF, FMD, SVD, and rinderpest for EU Member States. The EAs were also made available for the public to review.

² To view the notice and supporting documents, go to http://www.regulations.gov/#!docketDetail;D=APHIS-2016-0044.

³ The geographic scope of the action is limited to the Republic of Cyprus, excluding those areas of the Republic of Cyprus in which the Government of the Republic of Cyprus does not exercise effective control.

We solicited comments on the notice for 60 days ending March 24, 2017. We did not receive any comments. Therefore, in accordance with the regulations, we are announcing our decision to recognize Cyprus as free of FMD, rinderpest, and SVD, and as low risk for CSF. As such, Cyprus will be added to the Web-based list of regions comprising the APHIS-defined European CSF region, which APHIS considers to be low risk for CSF, and to the respective Web-based lists of regions APHIS considers free of FMD, SVD, and rinderpest. The lists of regions recognized as free of or at low risk for these diseases can be found by visiting the APHIS Web site at http://www.aphis.usda.gov/wps/portal/aphis/ourfocus/importexport and following the link to “Animal or Animal Product.” Copies of the lists are also available via postal mail, fax, or email upon request to Regionalization Evaluation Services, National Import Export Services, Veterinary Services, Animal and Plant Health Inspection Service, 4700 River Road Unit 39, Riverdale, Maryland 20737.

Authority: 7 U.S.C. 450, 7701-7772, 7781-7786, and 8301-8317; 21 U.S.C. 136 and 136a; 31 U.S.C. 9701; 7 CFR 2.22, 2.80, and 371.4.

Done in Washington, DC, this 2nd day of June 2017.
Michael C. Gregoire,
Acting Administrator, Animal and Plant Health Inspection Service.

[FR Doc. 2017-11889 Filed 6-7-17; 8:45 am]

BILLING CODE 3410-34-P